DEPARTMENT OF TRANSPORTATION

Federal Aviation Administration

14 CFR Part 39

[Docket No. 2003-CE-23-AD; Amendment 39-13173; AD 2003-11-14]

RIN 2120-AA64

Airworthiness Directives; The New Piper Aircraft, Inc. Models PA-34-200T, PA-34-220T, PA-44-180, and PA-44-180T Airplanes

AGENCY: Federal Aviation Administration, DOT.

ACTION: Final rule; request for comments.

SUMMARY: This amendment adopts a new airworthiness directive (AD) that applies to certain The New Piper Aircraft, Inc. (Piper) Models PA-34-200T, PA-34-220T, PA-44-180, and PA-44-180T airplanes that have a model 91E92-1 or model 91E93-1 combustion heater fuel pump installed. This AD requires you to accomplish a one-time inspection of the combustion heater fuel pumps for fuel leakage. If leakage is found, repair or replace the fuel pump. This AD is the result of recent reports of fuel leakage. The actions specified by this AD are intended to correct quality control problems with the heater fuel pump, which could result in failure of the heater fuel pump. Such failure could lead to fire or explosion in the cockpit.

DATES: This AD becomes effective on June 20, 2003.

The Director of the Federal Register approves the incorporation by reference of certain publications listed in the regulation as of June 20, 2003.

The Federal Aviation Administration (FAA) must receive any comments on this rule on or before August 8, 2003.

ADDRESSES: Submit comments to FAA, Central Region, Office of the Regional Counsel, Attention: Rules Docket No. 2003-CE-23-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2003-CE-23-AD” in the subject line. If you send comments electronically as attached electronic files, the files must be formatted in Microsoft Word 97 for Windows or ASCII text.

You may get the service information referenced in this AD from The New Piper Aircraft, Inc., Customer Services, 2926 Piper Drive, Vero Beach, Florida 32960; telephone: (772) 567-4361; facsimile: (772) 978-6584. You may view this information at FAA, Central Region, Office of the Regional Counsel, Attention: Rules Docket No. 2003-CE-23-AD, 901 Locust, Room 506, Kansas City, Missouri 64106; or at the Office of the Federal Register, 800 North Capitol Street, NW., suite 700, Washington, DC.

FOR FURTHER INFORMATION CONTACT: Hector Hernandez, Aerospace Engineer, FAA, Atlanta Aircraft Certification Office, One Crown Center, 1895 Phoenix Boulevard, Suite 450, Atlanta, Georgia 30349; telephone: (770) 703-6069; facsimile: (770) 703-6097.

SUPPLEMENTARY INFORMATION:

Discussion

What Events Have Caused This AD?

The FAA has received several reports of fuel leakage from the combustion heater fuel pumps installed on Piper Models PA-34-200T, PA-34-220T, PA-44-180, and PA-44-180T airplanes.

Improper torque was applied to the mounting screws of the fuel pump filter cover. This condition was found during a quality control inspection.

Improper torquing of the mounting screws may result in sealing surface abnormalities such as nicks, gouges, or warping.

What Are the Consequences If the Condition Is Not Corrected?

This condition, if not corrected, could result in failure of the combustion heater fuel pump and lead to fire or explosion in the cockpit.

Is There Service Information That Applies to This Subject?

Piper has issued Service Bulletin No. 1127, dated February 26, 2003. This Piper service bulletin includes Kelly Aerospace Service Information Letter Bulletin No. A-110A, dated March 6, 2003.

What Are the Provisions of This Service Information?

These service bulletins include procedures for:

—Inspecting the combustion heater fuel pump for leaks; and

—Inspecting the sealing surface of the fuel pump.

The FAA's Determination and an Explanation of the Provisions of This AD

What Has FAA Decided?

The FAA has reviewed all available information, including the service information referenced above; and determined that:

—The unsafe condition referenced in this document exists or could develop on other Piper Models PA-34-200T, PA-34-220T, PA-44-180, and PA-44-180T airplanes of the same type design;

—The actions specified in the previously-referenced service information should be accomplished on the affected airplanes; and

—AD action should be taken in order to correct this unsafe condition.

What Does This AD Require?

This AD requires you to incorporate the actions in the previously-referenced service bulletin.

In preparation of this rule, we contacted type clubs and aircraft operators to obtain technical information and information on operational and economic impacts. We have included, in the rulemaking docket, a discussion of information that may have influenced this action.

How Does the Revision to 14 CFR Part 39 Affect This AD?

On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Will I Have the Opportunity To Comment Prior to the Issuance of the Rule?

Because the unsafe condition described in this document could result in fire or explosion in the cockpit, we find that notice and opportunity for public prior comment are impracticable. Therefore, good cause exists for making this amendment effective in less than 30 days.

Comments Invited

How Do I Comment on This AD?

Although this action is in the form of a final rule and was not preceded by notice and opportunity for public comment, FAA invites your comments on the rule. You may submit whatever written data, views, or arguments you choose. You need to include the rule's docket number and submit your comments to the address specified under the caption ADDRESSES. We will consider all comments received on or before the closing date specified above. We may amend this rule in light of comments received. Factual information that supports your ideas and suggestions is extremely helpful in evaluating the effectiveness of the AD action and determining whether we need to take additional rulemaking action.

Are There Any Specific Portions of the AD I Should Pay Attention to?

We specifically invite comments on the overall regulatory, economic, environmental, and energy aspects of the rule that might suggest a need to modify the rule. You may view all comments we receive before and after the closing date of the rule in the Rules Docket. We will file a report in the Rules Docket that summarizes each FAA contact with the public that concerns the substantive parts of this AD.

How Can I Be Sure FAA Receives My Comment?

If you want us to acknowledge the receipt of your comments, you must include a self-addressed, stamped postcard. On the postcard, write “Comments to Docket No. 2003-CE-23-AD.” We will date stamp and mail the postcard back to you.

Regulatory Impact

Does This AD Impact Various Entities?

These regulations will not have a substantial direct effect on the States, on the relationship between the national Government and the States, or on the distribution of power and responsibilities among the various levels of government. Therefore, FAA has determined that this final rule does not have federalism implications under Executive Order 13132.

Does This AD Involve a Significant Rule or Regulatory Action?

We have determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

2003-11-14 The New Piper Aircraft, Inc.: Amendment 39-13173; Docket No. 2003-CE-23-AD.

(a) What airplanes are affected by this AD? This AD applies to the following airplane models and serial numbers that are certificated in any category, equipped with a model 91E92-1 or model 91E93-1 aircraft heater fuel pump:

Model | Serial Nos.
PA-34-200T | 34-7570002 through 34-8170092.
PA-34-220T | 34-8133002 through 3449278.
PA-44-180 | 44-7995001 through 4496168.
PA-44-180T | 44-8107001 through 44-8207020.

(b) Who must comply with this AD? Anyone who wishes to operate any of the airplanes identified in paragraph (a) of this AD must comply with this AD.

(c) What problem does this AD address? The actions specified by this AD are intended to correct quality control problems with the heater fuel pump, which could result in failure of the heater fuel pump. Such failure could lead to fire or explosion in the cockpit.

(d) What must I do to address this problem? To address this problem, you must accomplish the following actions:

Actions | Compliance | Procedures
(1) Visually inspect any aircraft heater fuel pump (mode A-91E92-1 or model 91E93-1) for leakage | Within the next 10 hours time-in-service (TIS) after June 20, 2003 (the effective date of this AD), unless already accomplished | In accordance with The New Piper Aircraft, Inc. Service Bulletin No. installed 1127, dated February 26, 2003; Kelly Aerospace Power Systems Service Information Letter Bulletin No. 110A, dated March 6, 2003; and the applicable airplane maintenance instructions.
(2) If any leak is found, inspect the pump sealing surface for abnormalities (for example, nicks, gouges, or warping). Correct any abnormality found. If any abnormality cannot be corrected, replace the heater fuel pump | Prior to further flight after the inspection required in paragraph (d)(1) of this AD | In accordance with The New Piper Aircraft, Inc. Service Bulletin No. 1127, dated February 26, 2003; Kelly Aerospace Power Systems Service Information Letter Bulletin No. A-110A, dated March 6, 2003; and the applicable airplane maintenance instructions.
(3) Do not install any heater fuel pump (model 91E92-1 or model 91E93-1) unless you have visually inspected the pump for leakage | As of June 20, 2003 (the effective date of this AD) | In accordance with The New Piper Aircraft, Inc. Service Bulletin No. 1127, dated February 26, 2003; Kelly Aerospace Power Systems Service Information Letter Bulletin No. A-110A, dated March 6, 2003; and the applicable airplane maintenance instructions.

(e) Can I comply with this AD in any other way? To use an alternative method of compliance or adjust the compliance time, follow the procedures in 14 CFR 39.19. Send these requests to the Manager, Atlanta Aircraft Certification Office (ACO). For information on any already approved alternative methods of compliance, contact Hector Hernandez, Aerospace Engineer, FAA, Atlanta Aircraft Certification Office, One Crown Center, 1895 Phoenix Boulevard, Suite 450, Atlanta, Georgia 30349; telephone: (770) 703-6069; facsimile: (770) 703-6097.

(f) Are any service bulletins incorporated into this AD by reference? Actions required by this AD must be done in accordance with The New Piper Aircraft, Inc. Service Bulletin No. 1127, dated February 26, 2003, and Kelly Aerospace Power Systems Service Information Letter Bulletin No. A-110A, dated March 6, 2003.The Director of the Federal Register approved this incorporation by reference under 5 U.S.C. 552(a) and 1 CFR part 51. You can get copies from The New Piper Aircraft, Inc., Customer Services, 2926 Piper Drive, Vero Beach, Florida 32960; telephone: (772) 567-4361; facsimile: (772) 978-6584. You may view this information at FAA, Central Region, Office of the Regional Counsel, 901 Locust, Room 506, Kansas City, Missouri, or at the Office of the Federal Register, 800 North Capitol Street, NW., suite 700, Washington, DC.

(g) When does this amendment become effective? This amendment becomes effective on June 20, 2003.

Issued in Kansas City, Missouri, on May 27, 2003.
David R. Showers,
Acting Manager, Small Airplane Directorate, Aircraft Certification Service.

[FR Doc. 03-13650 Filed 6-3-03; 8:45 am]

BILLING CODE 4910-13-P